FEDERAL MARITIME COMMISSION

Notice of Request for Additional Information

The Commission gives notice that it has formally requested that the parties to the below listed agreement provide additional information pursuant to 46 U.S.C. 40304(d). This action prevents the agreement from becoming effective as originally scheduled. Interested parties may submit written comments, including relevant information and documents, regarding the agreement to the Secretary by email at Secretary@fmc.gov, or by mail, Federal Maritime Commission, 800 North Capitol Street, Washington, DC 20573. Comments may be filed up to fifteen (15) days after publication of this notice appears in the Federal Register.

Agreement No.: 201429.

Title: Gemini Cooperation Agreement.

Parties: Hapag Lloyd AG; Hapag-Lloyd USA, LLC; Maersk A/S.

By Order of the Federal Maritime Commission.
Dated: July 11, 2024.
David Eng,
Secretary.

[FR Doc. 2024-15640 Filed 7-16-24; 8:45 am]

BILLING CODE